DEPARTMENT OF ENERGY

Federal Energy Regulatory Commission

[Docket No. RP01-499-000-1]

Trunkline Gas Company; Notice of Proposed Changes in FERC Gas Tariff

August 8, 2001.

Take notice that on August 1, 2001, Trunkline Gas Company (Trunkline) tendered for filing the as part of its FERC Gas Tariff, First Revised Volume No. 1, the tariff sheets list on Appendix A to the filing, become effective September 1, 2001.

Trunkline states the filing is made in accordance with Section 23 (Miscellaneous Revenue Flowthrough Surcharge Adjustment) of the General Terms and Conditions in its FERC Gas Tariff, First Revised Volume No. 1. These revised tariff sheets listed on Appendix A reflect the following changes to Trunkline's currently effective maximum Reservation Rates under Rate Schedules FT, QNT, EFT and LFT, and the currently effective maximum Usage Rates under Rate Schedules SST, QNIT, IT and FFZ:

1. A ($0.0351) per Dt. reduction from the Base Reservation Rate under Rate Schedules FT, QNT and EFT;

2. A ($0.0236) per Dt. reduction from the Base Reservation Rate under Rate Schedule LFT;

3. A ($0.0019) per Dt. reduction from the Base Rate under Rate Schedule SST;

4. A ($0.0012) per Dt. reduction from the Base Rate under Rate Schedules QNIT, IT-Peak and FFZ; and

5. A ($0.0009) per Dt. reduction from the Base Rate under Rate Schedule IT-Off-Peak.

Trunkline states that copies of this filing are being served on all affected customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20355 Filed 8-13-01; 8:45 am]

BILLING CODE 6717-01-P